DEPARTMENT OF HOUSING AND URBAN DEVELOPMENT

[Docket No. FR-5126-FA-01]

Announcement of Funding Awards for the Housing Choice Voucher Program; Fiscal Year 2006

AGENCY: Office of the Assistant Secretary for Public and Indian Housing, HUD.

ACTION: Announcement of Fiscal Year 2006 awards.

SUMMARY: In accordance with section 102(a)(4)(C) of the Department of Housing and Urban Development Reform Act of 1989, this document notifies the public of funding awards for Fiscal Year (FY) 2006 to housing agencies (HAs) under the Section 8 housing choice voucher program. The purpose of this notice is to publish the names, addresses, and the amount of the awards to HAs for non-competitive funding awards for housing conversion actions, public housing relocations and replacements, moderate rehabilitation replacements, and HOPE VI voucher awards.

FOR FURTHER INFORMATION CONTACT: David A. Vargas, Director, Office of Housing Voucher Programs, Office of Public and Indian Housing, Department of Housing and Urban Development, 451 Seventh Street, SW, Room 4226, Washington, DC 20410-5000, telephone (202) 708-2815. Hearing-or speech-impaired individuals may call HUD's TTY number at (800) 927-7589. (Only the “800” telephone number is toll-free.)

SUPPLEMENTARY INFORMATION: The regulations governing the housing choice voucher program are published at 24 CFR part 982. The regulations for allocating housing assistance budget authority under section 213(d) of the Housing and Community Development Act of 1974 are published at 24 CFR part 791, subpart D.

The purpose of this rental assistance program is to assist eligible families to pay the rent for decent, safe, and sanitary housing. The FY 2006 awardees announced in this notice were provided Section 8 funds on an as-needed, non-competitive basis, i.e., not consistent with the provisions of a Notice of Funding Availability (NOFAs). Announcements of awards provided consistent with NOFAs for mainstream housing and designated housing programs will be published in a separate Federal Register notice.

Awards published under this notice were provided (1) to assist families living in HUD-owned properties that are being sold; (2) to assist families affected by the expiration or termination of their project-based Section 8 and moderate rehabilitation contracts; (3) to assist families in properties where the owner has prepaid the HUD mortgage; (4) to provide relocation and replacement housing in connection with the demolition of public housing; (5) to provide replacement housing assistance for single room occupancy (SRO) units that fail housing quality standards (HQS); and (6) to assist families in public housing developments that are scheduled for demolition in connection with a HUD-approved HOPE VI Revitalization or Demolition Grant. Administrative fees were added to each assignment for the administration of housing choice vouchers awarded under this notice. In addition, special housing fees were included for applicable Housing tenant protection awards.

A total of $179,445,332 in budget authority for 23,099 housing choice vouchers was awarded to recipients under all of the above-mentioned categories.

In accordance with Section 102(a)(4)(C) of the Department of Housing and Urban Development Reform Act of 1989 (103 Stat. 1987, 42 U.S.C. 3545), the Department is publishing the names, addresses, and amounts of those awards as shown in Appendix A.

Dated: December 5, 2006.
Orlando J. Cabrera,
Assistant Secretary, Office of Public and Indian Housing.

APPENDIX A—Housing Choice Voucher Program Announcement of Funding Awards for Fiscal Year 2006
Housing Agency | Address | Units | Award
Public Housing Tenant Protection
MOBILE HOUSING BOARD | P O BOX 1345, MOBILE, AL 36633 | 23 | 81,850
HA SELMA | P O BOX 950, SELMA, AL 36702 | 2 | 5,439
CITY OF TUCSON | 310 NORTH COMMERCE PARK, TUCSON, AZ 85726 | 12 | 13,131
COUNTY OF LOS ANGELES HA | 2 CORAL CIRCLE, MONTEREY PARK, CA 93907 | 26 | 160,011
TULARE COUNTY HA | 5140 W. CYPRESS AVE, VISALIA, CA 93279 | 11 | 58,388
CITY OF OXNARD HA | 435 SOUTH D STREET, OXNARD, CA 93030 | 2 | 7,276
COUNTY OF MONTEREY HA | 123 RICO STREET, SALINAS, CA 93907 | 15 | 31,314
CITY OF ANAHEIM HA | 201 S. ANAHEIM BLVD., STE 203, ANAHEIM, CA 92805 | 2 | 3,028
CITY OF REDDING HA | 777 CYPRESS AVENUE, REDDING, CA 96049 | 24 | 64,120
BOULDER CITY HA | 3120 BROADWAY, BOULDER, CO 80304 | 44 | 90,340
WATERBURY HA | 2 LAKEWOOD ROAD, WATERBURY, CT 06704 | 8 | 52,321
ENFIELD HA | 17 ENFIELD TERRACE, ENFIELD TOWN, CT 06082 | 3 | 12,494
CITY OF HARTFORD HA | 10 PROSPECT STREET, HARTFORD, CT 06103 | 6 | 12,349
CT DEPT OF SOCIAL SERVICES | 25 SIGOURNEY STREET, 9TH FL, HARTFORD, CT 06105 | 7 | 54,510
D.C HSG AUTH | 1133 NORTH CAPITOL ST NE , WASHINGTON, DC 20002 | 131 | 860,815
HA OF JACKSONVILLE | 1300 BROAD STREET, JACKSONVILLE, FL 32202 | 38 | 130,015
ST. PETERSBURG HA | 3250 5TH AVENUE NORTH, ST. PETERSBURG, FL 33713 | 154 | 878,042
HA OF TAMPA | 1514 UNION STREET, TAMPA, FL 33607 | 35 | 83,630
MIAMI DADE HA | 1401 NW 7TH STREET, MIAMI, FL 33125 | 114 | 608,472
HA WEST PALM BEACH | 1715 DIVISION AVENUE, WEST PALM BEACH, FL 33407 | 17 | 79,402
HA POMPANO BEACH | 321 W. ATLANTIC BLVD, POMPANO BEACH, FL 33061 | 118 | 1,353,876
HA OCALA | P.O. BOX 2468, OCALA, FL 34478 | 35 | 173,797
BROWARD COUNTY HA | 1773 NORTH STATE ROAD 7, LAUDERHILL, FL 33313 | 220 | 1,659,741
HA DELRAY BEACH | 770 S W 12TH TERRACE, DELRAY BEACH, FL 33444 | 199 | 1,898,994
HA COLUMBUS GA | P O BOX 630, COLUMBUS, GA 31902 | 271 | 343,785
HA MARIETTA | 95 COLE STREET, MARIETTA, GA 30061 | 121 | 326,336
CITY OF DES MOINES MUNICIPAL HA | 100 EAST EUCLID, STE 101, DES MOINES, IA 50313 | 1 | 4,978
DUBUQUE DEPT OF HUMAN RIGHTS | 1805 CENTRAL AVENUE, DUBUQUE, IA 52001 | 27 | 80,346
HA OF THE CITY OF EAST ST. LOUIS | 700 NORTH 20TH STREET, EAST ST LOUIS, IL 62205 | 94 | 935,022
CHICAGO HA | 626 WEST JACKSON BLVD, CHICAGO, IL 60661 | 76 | 193,692
HA OF NEW ORLEANS | P. O. BOX 6409, NEW ORLEANS, LA 70174 | 16 | 81,949
WEBSTER HA | GOLDEN HEIGHTS, WEBSTER, MA 01570 | 2 | 4,347
COMM DEV PROG COMM OF MA E.O.C.D. | 100 CAMBRIDGE STREET, BOSTON, MA 02114 | 69 | 580,011
HA OF BALTIMORE CITY | 417 EAST FAYETTE STREET, BALTIMORE, MD 21201 | 5 | 122,429
BALTIMORE CO. HOUSING OFFICE | 6401 YORK ROAD, 1ST FL, BALTIMORE, MD 21212 | 13 | 58,543
MD DEPT OF HSG & COMM | 100 COMMUNITY PLACE, CROWNSVILLE, MD 21032 | 3 | 6,137
MAINE STATE HA | 353 WATER STREET, AUGUSTA, ME 04330 | 43 | 181,219
MICHIGAN STATE HSG DEV. AUTH. | P.O. BOX 30044, LANSING, MI 48909 | 123 | 81,362
ST. FRANCOIS COUNTY PH AGENCY | P O BOX N, PARK HILLS, MO 63601 | 10 | 20,994
HA BILOXI | P O BOX 447, BILOXI, MS 39533 | 134 | 1,057,119
MT DEPARTMENT OF COMMERCE | POB 200545 836 FRONT STREET, HELENA, MT 59620 | 30 | 70,662
STUTSMAN COUNTY HA | 217 1ST AVENUE N, JAMESTOWN, ND 58401 | 7 | 16,219
FARGO HSG AND REDEV AUTH | PO BOX 430, FARGO, ND 58107 | 10 | 36,793
OMAHA HA | 540 SOUTH 27TH STREET, OMAHA, NE 68105 | 3 | 1,738
NJ DEPT OF COMM AFFAIRS | 101 SOUTH BROAD STREET, TRENTON, NJ 08625 | 36 | 70,179
CITY OF RENO HA | 1525 EAST NINTH ST RENO, NV 89512 | 220 | 1,040,296
HA OF BEACON | 1 FORRESTAL HEIGHTS, BEACON, NY 12508 | 2 | 4,468
TOWN OF AMHERST | C/O BELMONT SHELTER 1195 MAIN STREET, BUFFALO, NY 14209 | 5 | 12,357
CITY OF NEW YORK DHPD | 100 GOLD STREET ROOM 5N, NEW YORK, NY 10007 | 170 | 748,900
NEW YORK STATE HSG FIN AUTH | 25 BEAVER STREET, RM 674, NEW YORK, NY 10004 | 66 | 238,438
COLUMBUS METRO. HA | 880 EAST 11TH AVENUE, COLUMBUS, OH 43211 | 10 | 43,900
CINCINNATI METROPOLITAN HA | 16 WEST CENTRAL PARKWAY, CINCINNATI, OH 45210 | 11 | 60,183
HA OF JACKSON COUNTY | 2231 TABLE ROCK ROAD, MEDFORD, OR 97501 | 1 | 988
HA OF THE CITY OF PITTSBURGH | 200 ROSS STREET, PITTSBURGH, PA | 73 | 119,410
SCRANTON HA | 400 ADAMS AVENUE, SCRANTON, PA 18510 | 6 | 26,749
ALLENTOWN HA | 1339 ALLEN STREET, ALLENTOWN, PA 18102 | 6 | 11,020
CHESTER HA | 1010 MADISON STREET, CHESTER, PA 19016 | 2 | 12,594
BEAVER COUNTY HA | 300 STATE STREET, BEAVER, PA 15009 | 9 | 44,338
DAUPHIN COUNTY HA | 501 MOHN STREET, STEELTON, PA 17113 | 8 | 41,375
WARREN HA | 20 LIBBY LANE, WARREN, RI 02885 | 7 | 23,655
MUNICIPALITY OF PONCE | P O BOX 1709, PONCE, PR 00733 | 97 | 148,096
MUNICIPALITY OF BAYAMON | P O 1588, BAYAMON, PR 00960 | 25 | 146,355
PUERTO RICO HSG FIN CORP | CALL BOX 71361-GPO, SAN JUAN, PR 00936 | 247 | 1,152,246
HA COLUMBIA | 1917 HARDEN STREET, COLUMBIA, SC 29204 | 35 | 50,326
CITY OF SPARTANBURG H/A | P O BOX 2828, SPARTANBURG, SC 29304 | 7 | 29,682
HA SUMTER | P O BOX 1030, SUMTER, SC 29151 | 46 | 123,343
HA NORTH CHARLESTON | P O BOX 70987, NORTH CHARLESTON, SC 29415 | 6 | 12,288
S C STATE HSG FINANCE & DEV | 300-C OUTLET POINTE BLVD, COLUMBIA, SC 29210 | 9 | 9,577
METROPOLITAN DEV & HSG AUTH | 701 SOUTH SIXTH STREET, NASHVILLE, TN 37202 | 117 | 768,802
HOUSTON HA | 2640 FOUNTAIN VIEW, HOUSTON, TX 77057 | 23 | 113,674
BROWNSVILLE HA | P O BOX 4420, BROWNSVILLE, TX 78523 | 164 | 511,593
HA OF DALLAS | 3939 N. HAMPTON RD, DALLAS, TX 75212 | 1,105 | 9,718,480
HA OF BEAUMONT | 4925 CONCORD RD., BEAUMONT, TX 77708 | 138 | 355,615
WESLACO HA | P O BOX 95, WESLACO, TX 78596 | 67 | 153,033
EDINBURG HA | P O BOX 295, EDINBURG, TX 78540 | 100 | 430,824
ALAMO HA | P O BOX 445, ALAMO, TX 78516 | 38 | 94,858
HA OF SALT LAKE CITY | 1776 SW TEMPLE, SALT LAKE CITY, UT 84115 | 4 | 13,763
ROANOKE REDEV & HA | 2624 SALEM TRNPK, NW, ROANOKE, VA 24017 | 20 | 55,405
CHARLOTTESVILLE REDEV & HA | 605 EAST MAIN ST, RM A040, CHARLOTTESVILLE, VA 22902 | 9 | 52,804
STAUNTON REDEV & HSG AUTH | PO BOX 1369, STAUNTON, VA 24402 | 13 | 47,863
ARLINGTON CO DEPT OF HUMAN SERV. | 3033 WILSON BLVD, STE 400A, ARLINGTON, VA 22201 | 22 | 150,850
PRINCE WILLIAM COUNTY | 15941 DONALD CURTIS DR, STE 112, WOODBRIDGE, VA 22191 | 1 | 13,461
WHEELING HA | 11 COMMUNITY STREET, WHEELING, WV 26003 | 4 | 16,792
Total for Public Housing Tenant Protection |  | 5,233 | $29,245,616
Housing Tenant Protection
AK HSG FINANCE CORP | PO BOX 101020, ANCHORAGE, AK 99510 | 44 | 326,649
H/A CITY OF MONTGOMERY | 1020 BELL ST, MONTGOMERY, AL 36104 | 114 | 604,471
DOTHAN H/A | P O BOX 1727, DOTHAN, AL 36302 | 100 | 45,070
HA JASPER | P O BOX 582, JASPER, AL 35501 | 60 | 237,559
HA DECATUR | P O BOX 878, DECATUR, AL 35602 | 20 | 89,580
HA TUSKEGEE | 2901 DAVISON STREET, TUSKEGEE INSTITUTE, AL 36088 | 49 | 164,807
JONESBORO URBAN RENEWAL & HSG | 330 UNION STREET, JONESBORO, AR 72401 | 3 | 16,745
COUNTY OF COCHISE PHA | 100 CLAWSON AVENUE-OLDHIGHSCH, BISBEE, AZ 85603 | 60 | 274,768
STATE OF ARIZONA | 1700 W WASHINGTON STREET, STE 210, PHOENIX, AZ 85007 | 59 | 270,600
SAN FRANCISCO HA | 440 TURK STREET, SAN FRANCISCO, CA 94102 | 30 | 514,553
COUNTY OF LOS ANGELES HA | 2 CORAL CIRCLE, MONTEREY PARK, CA 93907 | 45 | 499,960
OAKLAND HA | 1619 HARRISON ST, OAKLAND, CA 94612 | 84 | 1,104,681
CITY OF LOS ANGELES HA | 2600 WILSHIRE BLVD., 3RD FL, LOS ANGELES, CA 90057 | 109 | 1,009,744
COUNTY OF SACRAMENTO HSG | P.O. BOX 1834, SACRAMENTO, CA 95812 | 73 | 664,588
COUNTY OF BUTTE HA | 2039 FOREST AVENUE, SUITE 10, CHICO, CA 95928 | 44 | 257,681
COUNTY OF SUTTER HA | 448 GARDEN HIGHWAY, YUBA CITY, CA 95992 | 0 | 15,000
SAN DIEGO HSG COMMISSION | 1625 NEWTON AVE, SAN DIEGO, CA 92113 | 0 | 357,755
CITY OF LONG BEACH HA | 521 E. 4TH STREET, LONG BEACH, CA 90802 | 17 | 170,861
HA OF CITY OF NEW HAVEN | 360 ORANGE STREET, NEW HAVEN, CT 06511 | 34 | 286,424
NORWICH HA | 10 WESTWOOD PARK, NORWICH, CT 06360 | 15 | 113,730
MANCHESTER HA | 24 BLUEFIELD DR, MANCHESTER TOWN, CT 06040 | 46 | 349,633
CT DEPT OF SOCIAL SERVICES | 25 SIGOURNEY STREET, 9TH FL, HARTFORD, CT 06105 | 281 | 2,541,757
D.C HSG AUTH | 1133 NORTH CAPITOL ST NE, WASHINGTON, DC 20002 | 622 | 7,288,063
HA TAMPA | 1514 UNION ST, TAMPA, FL 33607 | 98 | 898,930
HA BREVARD COUNTY | 615 KUREK COURT, MERRITT ISLAND, FL 32954 | 70 | 442,927
CITY OF FORT MYERS | 1700 MEDICAL LANE, FORT MYERS, FL 33907 | 5 | 30,674
CITY OF PENSACOLA SECTION 8 | 180 GOVERNMENTAL CENTER, PENSACOLA, FL 32501 | 33 | 166,568
HA SAVANNAH | 200 EAST BROAD STREET, SAVANNAH, GA 31402 | 204 | 1,432,808
HA ATLANTA GA | 230 JOHN WESLEY DOBBS AVE. NE, ATLANTA, GA 30303 | 153 | 1,451,566
GA DEPT OF COMM AFFAIRS | 60 EXECUTIVE PARK SO, NE, STE 250, ATLANTA, GA 30329 | 5 | 33,772
CHARLES CITY HSG & REDEV AUTH | 1000 SOUTH GRAND AVE, CHARLES CITY, IA 50616 | 34 | 133,438
CENTRAL IOWA REGIONAL HA | 1201 GATEWAY DRIVE, GRIMES, IA 50111 | 10 | 44,830
CHICAGO HA | 626 WEST JACKSON BLVD, CHICAGO, IL 60661 | 414 | 4,224,799
CHAMPAIGN COUNTY HA | 205 WEST PARK AVENUE, CHAMPAIGN, IL 61820 | 74 | 511,367
WAUKEGAN HA | 215 S. MARTIN KING, JR. AVENUE, WAUKEGAN, IL 60085 | 73 | 664,668
CRAWFORDSVILLE HA | CRAWFORDSVILLE, CRAWFORDSVILLE, IN 47933 | 80 | 348,691
KANSAS CITY HA | 1124 NORTH NINTH STREET, KANSAS CITY, KS 66101 | 59 | 408,582
WICHITA HA | 332 N. RIVERVIEW, WICHITA, KS 67203 | 25 | 147,904
FORD COUNTY HA | P O BOX 1636, DODGE CITY, KS 67801 | 30 | 123,138
COWLEY COUNTY PHA | PO BOX 1122, ARKANSAS CITY, KS 67005 | 59 | 148,316
LOUISVILLE HA | 420 SOUTH EIGHTH STREET, LOUISVILLE, KY 40203 | 32 | 188,656
LEXINGTON-FAYETTE COUNTY HA | 300 NEW CIRCLE ROAD, LEXINGTON, KY 40505 | 83 | 452,723
LAFAYETTE (CITY) HA | 100 C O CIRCLE, LAFAYETTE, LA 70501 | 40 | 215,603
BOSTON HA | 52 CHAUNCY STREET, BOSTON, MA 02111 | 535 | 6,683,269
NEW BEDFORD HA | P.O. BOX A-2081, NEW BEDFORD, MA 02741 | 60 | 417,679
LAWRENCE HA | 353 ELM STREET, LAWRENCE, MA 01842 | 168 | 1,422,128
HA OF BALTIMORE CITY | 417 EAST FAYETTE STREET, BALTIMORE, MD 21201 | 303 | 2,347,472
HA PRINCE GEORGE'S COUNTY | 9400 PEPPERCORN PLACE, STE 200, LARGO, MD 20774 | 43 | 505,161
CHARLES COUNTY COMMISSIONERS | 8190 PORT TOBACCO ROAD, PORT TOBACCO, MD 20677 | 140 | 1,343,853
MD DEPT OF HSG & COMM DEV | 100 COMMUNITY PLACE, CROWNSVILLE, MD 21032 | 8 | 49,892
MAINE STATE HA | 353 WATER STREET, AUGUSTA, ME 04330 | 7 | 42,359
YPSILANTI HSG COMMISSION | 601 ARMSTRONG DRIVE, YPSILANTI, MI 48197 | 0 | 27,750
INKSTER HSG COMMISSION | 4500 INKSTER ROAD, INKSTER, MI 48141 | 234 | 1,573,332
COLDWATER HSG COMMISSION | 60 S. CLAY, COLDWATER, MI 49036 | 7 | 24,144
GRAND RAPIDS HSG COMM. | 1420 FULLER AVE SE, GRAND RAPIDS, MI 49507 | 124 | 749,793
TAYLOR HSG COMMISSION | 15270 PLAZA SOUTH DRIVE, TAYLOR, MI 48180 | 524 | 3,629,008
FERNDALE HSG COMMISSION | 415 WITHINGTON, FERNDALE, MI 48220 | 204 | 1,691,674
SOUTHFIELD HSG COMMISSION | 26000 EVERGREEN ROAD, SOUTHFIELD, MI 48076 | 184 | 1,233,109
MICHIGAN STATE HSG DEV AUTH | P.O. BOX 30044, LANSING, MI 48909 | 886 | ,755,670
ST PAUL PHA | 555 NORTH WABASHA, STE 400, ST. PAUL, MN 55102 | 27 | 245,593
METROPOLITAN COUNCIL HRA | 390 ROBERT STREET NORTH, ST. PAUL, MN 55101 | 14 | 126,362
WASHINGTON COUNTY HRA | 321 BROADWAY AVENUE, ST. PAUL PARK, MN 55071 | 50 | 461,459
ST. LOUIS HA | 4100 LINDELL BLVD, ST. LOUIS, MO 63108 | 175 | 1,114,057
INDEPENDENCE HA | 210 SOUTH PLEASANT, INDEPENDENCE, MO 64050 | 5 | 30,398
LEES SUMMIT HA | 111 SOUTH GRAND, LEES SUMMIT, MO 64063 | 137 | 1,044,505
MOUNTAIN GROVE HA | 301 WEST FIRST STREET, MOUNTAIN GROVE, MO 65711 | 6 | 18,040
HA OF THE CITY OF CHARLOTTE | 1301 SOUTH BOULEVARD, CHARLOTTE, NC 28236 |  | 33 157,760
H/A CITY OF GREENVILLE | 1103 BROAD STREET, GREENVILLE, NC 27834 | 12 | 106,680
FRANKLIN VANCE WARREN OPP'TY INC | P.O. BOX 1453, HENDERSON, NC 27536 | 53 | 331,959
MINOT HA | 108 EAST BURDICK EXPRESSWAY, MINOT, ND 58701 | 0 | 12,250
STARK COUNTY HA | 1149 WEST VILLARD, DICKINSON, ND 58602 | 10 | 32,212
COOPERSTOWN HOUSING AND | P.O. BOX 208, COOPERSTOWN, ND 58425 | 8 | 22,525
DICKEY/SARGENT HA | 309 NORTH 2ND, ELLENDALE, ND 58436 | 0 | 4,000
ATLANTIC CITY HA | 227 VERMONT AVENUE, ATLANTIC CITY, NJ 08404 | 40 | 345,544
PLEASANTVILLE HA | 156 NORTH MAIN STREET, PLEASANTVILLE, NJ 08232 | 100 | 886,324
KEANSBURG HA | ONE CHURCH STREET, KEANSBURG, NJ 07734 | 122 | 1,391,332
BURLINGTON COUNTY HA | 49 RANC0CAS ROAD, MOUNT HOLLY, NJ 08060 | 60 | 539,722
NJ DEPT OF COMM AFFAIRS | 101 SOUTH BROAD STREET, TRENTON, NJ | 503 | 4,594,085
ALBUQUERQUE HA | 1840 UNIVERSITY BLVD, SE, ALBUQUERQUE, NM 87106 | 125 | 676,655
REGION IV HA | 600 MITCHELL, CLOVIS, NM 88101 | 8 | 32,483
CITY OF LAS VEGAS HA | 420 N. 10TH STREET, LAS VEGAS, NV 89125 | 40 | 356,541
COUNTY OF CLARK HA | 5390 EAST FLAMINGO ROAD, LAS VEGAS, NV 89122 | 87 | 692,264
HA OF SYRACUSE | 516 BURT STREET, SYRACUSE, NY 13202 | 0 | 21,500
NEW YORK CITY HA | 90 CHURCH STREET, 9TH FLOOR, NEW YORK, NY 10007 | 1,727 | 17,338,870
HA OF SCHENECTADY | 375 BROADWAY, SCHENECTADY, NY 12305 | 0 | 8,750
HA OF ROCHESTER | 675 WEST MAIN STREET, ROCHESTER, NY 14611 | 504 | 2,378,820
HA OF NORWICH | 13 BROWN STREET, NORWICH, NY 13815 | 23 | 101,640
HA OF AUBURN | 20 THORNTON AVE, AUBURN, NY 13021 | 72 | 279,516
CITY OF NEW YORK DHPD | 100 GOLD STREET ROOM 5N, NEW YORK, NY 10007 | 693 | 16,099,605
CITY OF PEEKSKILL | 840 MAIN STREET, PEEKSKILL, NY 10566 | 40 | 416,239
KINGSTON COMMUNITY DEV | 420 BROADWAY, KINGSTON, NY 12401 | 122 | 805,191
NEW YORK STAT DHCR | 25 BEAVER STREET, RM 674, NEW YORK, NY | 1,935 | 20,406,519
COLUMBUS METRO. HA | 880 EAST 11TH AVENUE, COLUMBUS, OH 43211 | 412 | 2,652,880
CINCINNATI METROPOLITAN HA | 16 WEST CENTRAL PARKWAY, CINCINNATI, OH 45210 | 189 | 1,135,849
DAYTON METROPOLITAN HA | 400 WAYNE AVE, DAYTON, OH 45401 | 2 | 9,506
BUTLER MET.HA | 4110 HAMILTON MIDDLETOWN RD, HAMILTON, OH 45011 | 36 | 226,767
LICKING METRO HA | 144 WEST MAIN STREET, NEWARK, OH 43055 | 11 | 59,948
CITY OF MARIETTA | 304 PUTNAM STREET, MARIETTA, OH 45750 | 66 | 275,286
HANCOCK MHA | 1800 N. BLANCHARD ST, STE 114, FINDLAY, OH 45840 | 20 | 81,343
TULSA HA | P.O. BOX 6369, TULSA, OK 74148 | 115 | 716,652
OKLAHOMA HFA | P.O. BOX 26720, OKLAHOMA CITY, OK 73126 | 43 | 229,811
HA OF JACKSON COUNTY | 2231 TABLE ROCK ROAD, MEDFORD, OR 97501 16 101,018
CENTRAL OREGON REGL HA | 405 SW 6TH STREET, REDMOND, OR 97756 | 10 | 71,158
HA OF THE CITY OF PITTSBURGH | 200 ROSS STREET, PITTSBURGH, PA 15219 | 82 | 470,343
PHILADELPHIA HA | 12 SOUTH 23RD STREET, PHILADELPHIA, PA 19103 | 96 | 755,144
ALLENTOWN HA | 1339 ALLEN STREET, ALLENTOWN, PA 18102 | 108 | 595,603
JOHNSTOWN HA | 501 CHESTNUT ST, JOHNSTOWN, PA 15907 | 22 | 94,425
ALTOONA HA | 2700 PLEASANT VALLEY BLVD, ALTOONA, PA 16602 | 57 | 201,714
FRANKLIN COUNTY HA | 436 WEST WASHINGTON ST, CHAMBERSBURG, PA 17201 | 17 | 70,601
MUNICIPALITY OF BARRANQUITAS | P.O. BOX 250, BARRANQUITAS, PR 00794 | 100 | 438,472
MUNICIPALITY OF AGUADA | P.O. BOX 517, AGUADA, PR 00602 | 48 | 204,638
PIERRE HSG & REDEV AUTH | 301 W. PLEASANT AVE, PIERRE, SD 57501 | 39 | 148,929
PENNINGTON CO HSG & REDEV AUTH | 1805 WEST FULTON ST, RAPID CITY, SD 57702 | 8 | 40,713
MEMPHIS HA | 700 ADAMS AVE, MEMPHIS, TN 38105 | 126 | 954,697
KNOXVILLE COMMUNITY DEV | P.O. BOX 3550, KNOXVILLE, TN 37927 | 9 | 43,457
TENNESSEE HDA | 404 J. ROBERTSON PKWY, STE 1114, NASHVILLE, TN 37243 | 2 | 30,392
HA OF EL PASO | 5300 PAISANO, EL PASO, TX 79905 | 25 | 150,391
CORPUS CHRISTI HA | 3701 AYERS STREET, CORPUS CHRISTI, TX 78415 | 104 | 717,726
HA OF DALLAS | 3939 N. HAMPTON RD, DALLAS, TX 75212 | 52 | 497,267
GREGORY HA | P.O. BOX 206, GREGORY, TX 78359 | 19 | 112,250
HA OF ABILENE | 555 WALNUT, ABILENE, TX 7960 | 88 | 449,539
LANCASTER HA | 525 W. PLEASANT RUN RD, STE K, LANCASTER, TX 75146 | 25 | 195,712
LONGVIEW HSG. & COMM. DEV | P.O. BOX 1952, LONGVIEW, TX 75606 | 128 | 788,005
DEEP EAST TX COUNCIL OF GOVTS | 210 PREMIER DRIVE, JASPER, TX 75951 | 11 | 68,943
NEWPORT NEWS REDEV & HA | PO BOX 797, NEWPORT NEWS, VA 23607 | 44 | 304,484
NORFOLK REDEV & H/A | 201 GRANBY ST, NORFOLK, VA 23501 | 38 | 249,096
CITY OF VIRGINIA BEACH | 2424 COURTHOUSE DR., VIRGINIA BEACH, VA 23456 | 90 | 682,607
VIRGINIA HSG DEV AUTH | 601 SOUTH BELVIDERE STREET, RICHMOND, VA 23220 | 101 | 774,726
HA OF THE CITY OF BREMERTON | 110 RUSSELL RD, BREMERTON, WA 98312 | 6 | 37,705
HA OF THE CITY OF MILWAUKEE | 809 NORTH BROADWAY, MILWAUKEE, WI 53201 | 30 | 179,749
TOMAH HA | 819 SUPERIOR AVE, TOMAH, WI 54660 | 2 | 7,821
WISCONSIN HSG & ECON DEV AUTH | PO BOX 1728, MADISON, WI 53701 | 16 | 72,650
Total for Housing Tenant Protection |  | 16,061 | $142,748,149
HOPE VI Vouchers
CITY OF FRESNO HA | 1331 FULTON MALL, FRESNO, CA 93776 | 44 | 245,673
STAMFORD HA | 22 CLINTON AVE, STAMFORD, CT 06904 | 84 | 1,108,174
MIAMI DADE HA | 1401 NW 7TH STREET, MIAMI, FL 33125 | 0 | 2,591,250
HA OF THE CITY OF FORT MYERS | 4224 MICHIGAN AVE, FORT MYERS, FL 33916 | 220 | 208,727
NEWPORT HA | 301 SOUTHGATE, NEWPORT, KY 41072 | 130 | 308,651
LEXINGTON-FAYETTE COUNTY HA | 300 NEW CIRCLE ROAD, LEXINGTON, KY 40505 | 150 | 141,240
LONG BRANCH HA | PO BOX 336 GARFIELD COURT, LONG BRANCH, NJ 07740 | 134 | 775,720
PLEASANTVILLE HA | 156 NORTH MAIN STREET, PLEASANTVILLE, NJ 08232 | 50 | 269,159
SAN MIGUEL COUNTY HA | COUNTY COURTHOUSE ANNEX BLDG, LAS VEGAS, NM 87701 | 65 | 369,096
THE MUNICIPAL HA | 1511 CENTRAL PARK AVE, YONKERS, NY 10710 | 75 | 420,657
AKRON MHA | 100 W. CEDAR STREET, AKRON, OH 44307 | 70 | 80,286
HA OF PORTLAND | 135 SW ASH STREET, PORTLAND, OR 97204 | 98 | 108,776
MEMPHIS HA | 700 ADAMS AVE, MEMPHIS, TN 38105 | 385 | 455,578
PORTSMOUTH REDEV&H/A | 801 WATER STREET, STE 200, PORTSMOUTH, VA | 300 | 368,580
Total for HOPE VI Vouchers |  | 1,805 | $7,451,567
Grand Total |  | 23,099 | $179,445,332

[FR Doc. E6-22097 Filed 12-26-06; 8:45 am]

BILLING CODE 4210-67-P